DEPARTMENT OF HEALTH AND HUMAN SERVICES

National Institute for Occupational Safety and Health

Determination Concerning a Petition to Add a Class of Employees to the Special Exposure Cohort

AGENCY: National Institute for Occupational Safety and Health (NIOSH), Department of Health and Human Services (HHS).

ACTION: Notice.

SUMMARY: The Department of Health and Human Services (HHS) gives notice of a determination concerning a petition to add a class of employees at the Rocky Flats Plant, Golden, Colorado, to the Special Exposure Cohort (SEC) under the Energy Employees Occupational Illness Compensation Program Act of 2000 (EEOICPA), 42 U.S.C. 7384q. On August 6, 2007, the Secretary of HHS determined that the following employees do not meet the statutory criteria for addition to the SEC as authorized under EEOICPA:

Department of Energy employees or its contractor or subcontractor employees at the Rocky Flats plant in Golden, Colorado, who were exposed to radiation dose from 1967 through 2005 and who were exposed to any radiation dose other than neutron dose from 1952 through 1966.

FOR FURTHER INFORMATION CONTACT: Larry Elliott, Director, Office of Compensation Analysis and Support, National Institute for Occupational Safety and Health (NIOSH), 4676 Columbia Parkway, MS C-46, Cincinnati, OH 45226, Telephone 513-533-6800 (this is not a toll-free number). Information requests can also be submitted by e-mail to OCAS@CDC.GOV.

Dated: August 30, 2007.
John Howard,
Director, National Institute for Occupational Safety and Health.

[FR Doc. E7-17620 Filed 9-5-07; 8:45 am]

BILLING CODE 4160-17-P